DEPARTMENT OF LABOR

Office of the Secretary

President's Council on the 21st Century Workforce; Notice of Establishment

Establishment of the Council: This notice is published in accordance with the provisions of the Federal Advisory Committee Act and advises of the establishment of the President's Council on the 21st Century Workforce. Section 2 of Executive Order 13218, issued on June 20, 2001, provides for the establishment of the Council. The Council is to terminate 2 years from the date of the executive order unless extended by the President prior to such date.

Purpose of the Council: The Council is to provide information and advice to the President (through the Secretary of Labor), to the Office of the 21st Century Workforce (within the Department of Labor), and to other appropriate Federal officials addressing to issues related to the 21st century workforce. These activities are to include: (1) Assessing the effects of rapid technological changes, demographic trends, globalization, changes in work processes, and the need for new and enhanced skills for workers, employers, and other related sectors of society; (2) examining current and alternate approaches to assisting workers and employers in adjusting to and benefitting from such changes, including opportunities for workplace education, retraining, access to assistive technologies and workplace supports, and skills upgrading; (3) identifying impediments to the adjustment to such changes by workers and employers and recommending approaches and policies that could remove those impediments; (4) assisting the Office of the 21st Century Workforce in reviewing programs carried out by the Department of Labor and identifying changes to such programs that would streamline and update their effectiveness in meeting the needs of the workforce; and (5) analyzing such additional issues relating to the workforce and making such reports as the President or the Secretary of Labor may request.

Composition of the Council: The membership of the Council will consist of the Secretary of Labor and Director of the Office of Personnel Management, serving as ex officio members, and not more than thirteen additional members appointed by the President. These additional members are to include individuals who represent the views of business and labor organizations, Federal, State, and local governments, academicians and educators, and such other associations and entities as the President determines are appropriate. The Secretary of Labor is to be the Chairperson of the Council. The Council is to meet at least two times a year.

Federal Advisory Committee Act and Charter: The Council will function solely as an advisory body and in compliance with the Federal Advisory Committee Act. The charter of the Council will be filed in accordance with that Act and copies of the charter will be available upon request.

Comments: Interested persons are invited to submit comments regarding the establishment of the Council. Such comments should be addressed to Shelley Hymes, Director of the Office of the 21st Century Workforce, 200 Constitution Avenue, NW., Room S-2514, Washington, DC 20210.

Signed at Washington, DC, this 29th day of January, 2002.
Elaine L. Chao,
Secretary of Labor.

[FR Doc. 02-2644 Filed 2-4-02; 8:45 am]

BILLING CODE 4510-23-M